DEPARTMENT OF TRANSPORTATION

Federal Highway Administration

Notice of Final Federal Agency Action on Proposed Highway in Idaho

AGENCY: Federal Highway Administration (FHWA), DOT.

ACTION: Notice of Limitation on Claims for Judicial Review of Action by Army Corps of Engineers (USACE).

SUMMARY: This notice announces action taken by the USACE that is final within the meaning of 23 U.S.C. 139(l)(1). The action relates to a proposed highway project, Sandpoint North and South, Federal-aid Project No. DHP-NH-IR-CM-F-5116(068), Idaho Department of Transportation (ITD) Key No. 1729, Sandpoint in Bonner County in the State of Idaho. The action grants a Clean Water Act (CWA), section 404 permit for the project, pursuant to 33 U.S.C. 1344.

DATES: By this notice, the FHWA is advising the public of a final agency action subject to 23 U.S.C. 139(l)(1). A claim seeking judicial review of the Federal agency action on the highway project will be barred unless the claim is filed on or before June 30, 2008.

FOR FURTHER INFORMATION CONTACT: For FHWA: Mr. Peter Hartman, Division Administrator, Federal Highway Administration, 3050 Lakeharbor Lane Suite 126, Boise, Idaho 83703; telephone: (208) 334-1843; e-mail: Idaho.FHWA@fhwa.dot.gov. The FHWA Idaho Division Office's normal business hours are 8 a.m. to 4 p.m. (Mountain Time). For USACE: Mr. Brad Daly, Chief, Regulatory Division, U.S. Army Corps of Engineers, Walla Walla District, 201 North 3rd Avenue, Walla Walla, WA 99362; telephone: (509) 527-7151. Normal business hours are 8 a.m. to 5 p.m. (Pacific Time). For ITD: Mr. Damon Allen, District 1 Engineer, Idaho Transportation Department, District 1 Office, 600 West Prairie, Coeur D'Alene, ID 83815; telephone: (208) 772-1200. Normal business hours are 7 a.m. to 4 p.m. (Pacific Time).

SUPPLEMENTARY INFORMATION: The US-95 Sandpoint North and South project, DHP-NH-IR-CM-F-5116(068), involves construction, reconstruction and widening of an eight-mile section of US-95 from north of the community of Sagle to north of Kootenai Cutoff Road in the City of Ponderay. A Final Environmental Impact Statement was approved by FHWA on September 9, 1999. A Record of Decision was issued on May 23, 2000. The project will be funded and constructed in phases: Sagle to the Long Bridge, Long Bridge Widening, Sand Creek Byway, and Sandpoint to Kootenai Cutoff Road. An Environmental Assessment (EA), which addressed changes in the Sand Creek Byway phase of the project since the ROD and also revaluated the entire Sandpoint North and South project, was approved May 7, 2004. The EA was made available to the public and a revised EA and Finding of No Significant Impact (FONSI) were approved on April 15, 2005. A subsequent environmental re-evaluation of the project was approved on August 17, 2006.

Notice is hereby given that, subsequent to the earlier FHWA actions, the USACE has taken a final agency action subject to 23 U.S.C. 139(1)(1) by issuing a CWA section 404 permit for the Sand Creek Byway portion of the highway project. The actions by the USACE, related final actions by other federal agencies, and the laws under which such actions were taken, are described in the USACE decisions and its project records, referenced as USACE Permit Number: NWW No. 040500002. That information is available by contacting the USACE at the address provided above. Information about the project and project records is available from the FHWA and the Idaho Transportation Department (ITD) at the addresses provided above. Information on the project and a link to the Notice of Limitation on Claims for Judicial Review of Action by Army Corps of Engineers can also be found at http://www.itd.idaho.gov/projects/d1/sandcreekbyway. The FHWA EIS/ROD, EA, Reviewed EA/FONSI, re-evaluation, and other supporting information are also available by contacting the FHWA or ITD at the addresses provided above.

This notice applies to the USACE permit action taken after the FHWA actions described above, and the law under which such action was taken, specifically: section 404 of the Clean Water Act: 33 U.S.C. 1344.

(Catalog of Federal Domestic Assistance Program Number 20.205, Highway Planning and Construction. The regulations implementing Executive Order 12372 regarding intergovernmental consultation on Federal programs and activities apply to this program.)

Authority: 23 U.S.C. 139(l)(1).

Issued on: December 19, 2007.
Peter Hartman,
Division Administrator.

[FR Doc. 07-6225 Filed 12-28-07; 8:45 am]

BILLING CODE 4910-RY-M